DEPARTMENT OF ENERGY

Federal Energy Regulatory Commission

[Docket No. RP04-14-001]

Maritimes & Northeast Pipeline, L.L.C.; Notice of Compliance Filing

November 17, 2003.

Take notice that on November 10, 2003, Maritimes & Northeast Pipeline, L.L.C. (Maritimes) made a compliance filing, in accordance with the Commission Order dated October 29, 2003, in the captioned proceeding.

Maritimes states that copies of its filing have been mailed to all parties listed on the Official Service List in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E3-00360 Filed 11-21-03; 8:45 am]

BILLING CODE 6717-01-P